DEPARTMENT OF VETERANS AFFAIRS

[OMB Control No. 2900-0789]

Proposed Information Collection (Application Requirements To Receive VA Dental Insurance Plan Benefits Under 38 CFR 17.169) Activity: Comment Request

AGENCY: Veterans Health Administration, Department of Veterans Affairs.

ACTION: Notice.

SUMMARY: The Veterans Health Administration (VHA) is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on information needed to identify areas for improvement in clinical training programs.

DATES: Written comments and recommendations on the proposed collection of information should be received on or before December 30, 2016.

ADDRESSES: Submit written comments on the collection of information through the Federal Docket Management System (FDMS) at www.Regulations.gov; or to Brian McCarthy, Office of Regulatory and Administrative Affairs, Veterans Health Administration (10B4), Department of Veterans Affairs, 810 Vermont Avenue NW., Washington, DC 20420 or email: Brian.McCarthy4@va.gov. Please refer to “OMB Control No. 2900-0789” in any correspondence. During the comment period, comments may be viewed online through FDMS.

FOR FURTHER INFORMATION CONTACT: Brian McCarthy at (202) 461-6345.

SUPPLEMENTARY INFORMATION: Under the PRA of 1995 (Pub. L. 104-13; 44 U.S.C. 3501-3521), Federal agencies must obtain approval from OMB for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles: VA Dental Insurance Plan (VADIP) Fact Sheet.

OMB Control Number: 2900-0789.

Type of Review: Revision of a currently approved collection.

Abstracts: Department of Veteran Affairs Dental Insurance Reauthorization Act of 2016 (Pub. L. 114-218) requires VA to establish and administer a dental insurance plan for Veterans enrolled in VA health care and survivors and dependents of Veterans eligible for VA's Civilian Health and Medical Program (CHAMPVA). Public Law 114-218 requires VA to contract with a private insurer (using the Federal contracting process) to offer dental insurance, and the private insurer will be responsible for virtually all aspects of the administration of the dental insurance program. VA's role will primarily be to form the contract with the private insurer and verify eligibility of veterans and certain survivors and dependents. Enrolled veterans and certain survivors and dependents of veterans will be required to complete an application to be enrolled in this dental insurance program, and will be required to submit certain documentation/information for certain types of disenrollment requests and for appeals of claims decisions. VA will not prescribe the form these collections are to take, but is prescribing regulations that nonetheless require these collections. These collections are required to fulfill VA's obligations under Public Law 114-218.

Affected Public: Individuals or households.

Estimated Annual Burden: 40,750.

Estimated Average Burden per Respondent: 76 minutes.

Frequency of Response: Annually.

Estimated Annual Responses: 301,500.

By direction of the Secretary.
Cynthia Harvey-Pryor,
Program Specialist, Office of Privacy and Records Management, Department of Veterans Affairs.

[FR Doc. 2016-26149 Filed 10-28-16; 8:45 am]

BILLING CODE 8320-01-P